ENVIRONMENTAL PROTECTION AGENCY

[ER-FRL-6673-9]

Environmental Impacts Statements; Notice of Availability

Responsible Agency: Office of Federal Activities, General Information (202) 564-7167 or http://www.epa.gov/compliance/nepa/.

Weekly receipt of Environmental Impact Statements

Filed March 27, 2006 Through March 31, 2006

Pursuant to 40 CFR 1506.9.

EIS No. 20060108, Revised Final EIS, AFS, CO, Gold Camp Road Plan, Develop a Feasible Plan to Manage the Operation of Tunnel #3 and the 8.5 mile Road Segment, Pike National Forest, Pikes Peak Ranger District, Colorado Springs, El Paso County, CO, Wait Period Ends: May 8, 2006, Contact: Frank Landis 719-477-4203.

EIS No. 20060109, Draft EIS, NPS, KY, Abraham Lincoln Birthplace National Historic Site, General Management Plan, Implementation, LaRue County, KY, Comment Period Ends: June 5, 2006, Contact: Matthew Safford 303-969-2898.

EIS No. 20060110, Draft EIS, AFS, MT, Whitetail-Pipestone Travel Management, Develop Site-Specific Travel Management Plan, Jefferson and Butte Ranger Districts, Beaverhead-Deerlodge National Forest, Jefferson and Silver Bow Counties, MT, Comment Period Ends: May 22, 2006, Contact: Cheryl Martin 406-287-3223 Ext 107.

EIS No. 20060111, Final Supplement, COE, MO, St. Johns Bayou and New Madrid Floodway Project, Channel Enlargement and Improvement, Revised Information to Clarify and Address Issues of Concern, Flood Control National Economic Development (NED), New Madrid, Mississippi and Scott Counties, MO, Wait Period Ends: May 8, 2006, Contact: Daniel D. Ward 901-544-0709.

EIS No. 20060112, Final EIS, OSM, PA, Adoption—Dents Run Watershed Ecosystem Restoration, Construction and Operation of Six Acid Mine Drainage Abatement Projects, Implementation, Benezette Township, Susquehana River Basin, Elk County, PA, Wait Period Ends: May 8, 2006, Contact: Fred Sherfy 717-782-4931 Ext 19. OSM has adopted the Corps of Engineer's, FEIS #20020021 filed January 11, 2002. OSM was not a Cooperating Agency on the FEIS. Under Section 1506.3(b) of the CEQ Regulation, the FEIS must be Recirculated for a 30-day Wait Period.

EIS No. 20060113, Draft EIS, FHW, MO, Interstate 29/35 Paseo Bridge Corridor, Reconstruct and Widen I-29/35, Missouri River, North Kansas City and Kansas City, Clay and Jackson Counties, MO, Comment Period Ends: May 22, 2006, Contact: Peggy Casey 573-636-7104.

EIS No. 20060114, Final EIS, EPA, CA, Regional Non-Potable Water Distribution System Project, Funding, U.S. Army COE Section 404 Permit, Riverside and San Bernardino County, CA, Wait Period Ends: May 8, 2006, Contact: Elizabeth Borowiec 415-972-3419.

EIS No. 20060115, Draft EIS, AFS, UT, Upper Strawberry Allotments Grazing, Authorize Liverstock Grazing, Heber Ranger District, Uinta National Forest, Wasatch County, UT, Comment Period Ends: May 22, 2006, Contact: Jim Percy 435-654-0470.

EIS No. 20060116, Final EIS, NPS, OH, First Ladies National Historic Site General Management Plan, Implementation, Canton, OH, Wait Period Ends: May 8, 2006, Contact: Carol J. Spears 440-974-2993.

EIS No. 20060117, Draft EIS, FHW, LA, I-49 South Wax Lake Outlet to Berwick Route US-90, Transportation Improvements, Funding and Right-of-Way Acquisition, St. Mary Parish, LA, Comment Period Ends: 05/31/2006, Contact: William C. Farr 225-757-7615.

EIS No. 20060118, Final EIS, AFS, OR, Drew Creek Diamond Rock and Divide Cattle Allotments, Alternative 2 Preferred Alternative, Issuance of Term Grazing Permits on Livestock Allotments on Tiller Ranger District, Implementation, Umpqua National Forest, Douglas and Jackson Counties, OR, Wait Period Ends: May 8, 2006, Contact: Wes Yamamoto 541-825-3100.

EIS No. 20060119, Draft EIS, FHW, VA, Harrisonburg Southeast Connector Location Study, Transportation Improvements from U.S. Route 11 to U.S. Route 33, Funding and US Army COE Section 404 Permit, City of Harrisonburg, Rockingham County, VA, Comment Period Ends: May 26, 2006, Contact: John Simkins 804-775-3342.

EIS No. 20060120, Final Supplement, FTA, WA, Central Link Light Rail Transit Project (Sound Transit) Construction and Operation of the North Link Light Rail Extension, from Downtown Seattle and Northgate, Updated Information on Refined Design Concepts, Funding, Right-of-Way and U.S. Army COE Section 404 Permits, King County, WA, Wait Period Ends: May 8, 2006, Contact: James Irish 206-398-5000.

EIS No. 20060121, Final EIS, CGD, 00, Compass Port and Deepwater Port License Application, To Construct a Liquefied Natural Gas (LNG) Receiving, Storage and Regasification Facility, Proposed Offshore Pipeline and Fabrication Site, NPDES Permit, U.S. Army COE Section 10 and 404 Permits, Mobile County, AL and San Patricio and Nueces County, TX, Wait Period Ends: May 22, 2006, Contact: M.A. Prescott 202-267-0225.

Dated: April 4, 2006.
Ken Mittelholtz,
Environmental Protection Specialist, NEPA Compliance Division, Office of Federal Activities.

[FR Doc. E6-5090 Filed 4-6-06; 8:45 am]

BILLING CODE 6560-50-P